FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 19, 2017.

A. Federal Reserve Bank of Chicago (Colette A. Fried, Assistant Vice President) 230 South LaSalle Street, Chicago, Illinois 60690-1414:

1. Jennifer S. LeClair, St. Charles, Missouri, Joseph M. Leng, Primghar, Iowa, Jamey M. Rehder, Granville, Iowa, and Jeffrey J. Leng, Primghar, Iowa; to join the Leng Family Control Group and thereby retain shares of Capital Bancshares, Inc., Primghar, Iowa, and thereby indirectly retain shares of Savings Bank, Primghar, Iowa.

Board of Governors of the Federal Reserve System, August 31, 2017.
Yao-Chin Chao,
Assistant Secretary of the Board.

[FR Doc. 2017-18894 Filed 9-6-17; 8:45 am]

BILLING CODE P